COMMISSION ON CIVIL RIGHTS

Sunshine Act Notice

AGENCY: United States Commission on Civil Rights.

ACTION: Notice of meeting cancellation.

SUMMARY: On June 15, 2010 (75 FR 34423), the U.S. Commission on Civil Rights announced a business meeting to be held on Friday, June 25, 2010 at the Commission's headquarters. On Friday, June 25, 2010, the meeting was cancelled. The decision to cancel the meeting was too close in time to the date and time of the meeting for the publication of a cancellation notice to appear in advance of the scheduled meeting date. The details of the cancelled meeting are:

DATE AND TIME: Friday, June 25, 2010; 11:30 a.m. EDT

PLACE: Via Teleconference, Public Dial In: 1-800-597-7623, Conference ID #82122192.

Meeting Agenda

This meeting is open to the public, except where noted otherwise.

I. Approval of Agenda

II. State Advisory Committee Issues

• Florida SAC

III. Program Planning

• Consideration of Discovery Plan and Project Outline for Report on Sex Discrimination in Liberal Arts College Admissions

IV. Adjourn

The Commission's next scheduled meeting is Friday, July 16, 2010, the details of which will be published in the Federal Register eight days prior to that meeting.

CONTACT PERSON FOR FURTHER INFORMATION: Lenore Ostrowsky, Acting Chief, Public Affairs Unit (202) 376-8591. TDD: (202) 376-8116. Persons with a disability requiring special services, such as an interpreter for the hearing impaired, should contact Pamela Dunston at least seven days prior to the meeting at 202-376-8105. TDD: (202) 376-8116.

Dated: June 29, 2010.
David Blackwood,
General Counsel.

[FR Doc. 2010-16224 Filed 6-29-10; 4:15 pm]

BILLING CODE 6335-01-P